DEPARTMENT OF TRANSPORTATION

Federal Aviation Administration

14 CFR Part 39

[Docket No. 2001-NM-333-AD]

RIN 2120-AA64

Airworthiness Directives; Fokker Model F.28 Mark 1000, 2000, 3000, and 4000 Series Airplanes

AGENCY: Federal Aviation Administration, DOT.

ACTION: Notice of proposed rulemaking (NPRM).

SUMMARY: This document proposes the adoption of a new airworthiness directive (AD) that is applicable to certain Fokker Model F.28 Mark 1000, 2000, 3000, and 4000 series airplanes. This proposal would require repetitive general visual inspections, lubrication, and tests of the release mechanism for the service/emergency door; and corrective actions if necessary. This proposal also provides an optional terminating action for the repetitive inspections and lubrication. This action is necessary to prevent failure of the release mechanism on the service/emergency door, which could result in the inability to open the service/emergency door during an emergency evacuation. This action is intended to address the identified unsafe condition.

DATES: Comments must be received by January 5, 2004.

ADDRESSES: Submit comments in triplicate to the Federal Aviation Administration (FAA), Transport Airplane Directorate, ANM-114, Attention: Rules Docket No. 2001-NM-333-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-333-AD” in the subject line and need not be submitted in triplicate. Comments sent via the Internet as attached electronic files must be formatted in Microsoft Word 97 or 2000 or ASCII text.

The service information referenced in the proposed rule may be obtained from Fokker Services B.V., P.O. Box 231, 2150 AE Nieuw-Vennep, the Netherlands. This information may be examined at the FAA, Transport Airplane Directorate, 1601 Lind Avenue, SW., Renton, Washington.

FOR FURTHER INFORMATION CONTACT: Tom Rodriguez, Aerospace Engineer, International Branch, ANM-116, FAA, Transport Airplane Directorate, 1601 Lind Avenue, SW., Renton, Washington 98055-4056; telephone (425) 227-1137; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-333-AD.” The postcard will be date stamped and returned to the commenter.

Availability of NPRMs

Any person may obtain a copy of this NPRM by submitting a request to the FAA, Transport Airplane Directorate, ANM-114, Attention: Rules Docket No. 2001-NM-333-AD, 1601 Lind Avenue, SW., Renton, Washington 98055-4056.

Discussion

The Civil Aviation Authority—The Netherlands (CAA-NL), which is the airworthiness authority for the Netherlands, notified the FAA that an unsafe condition may exist on certain Fokker Model F.28 Mark 1000, 2000, 3000, and 4000 series airplanes. The CAA-NL advises that it has received reports that, during evacuation training, the service/emergency door release mechanism was unable to release the door rollers, which resulted in the inability to open the service/emergency door. Investigation revealed that the release mechanism did not operate properly due to lack of lubrication on the door rollers. Service experience has shown that the reliability of the release mechanism can degrade if it is not regularly maintained (inspected, lubricated, and tested). Improperly maintained service/emergency door release mechanisms, if not corrected, could result in the inability to open the service/emergency door during an emergency evacuation.

Explanation of Relevant Service Information

Fokker Services B.V. has issued Fokker Service Bulletin F28/52-118, dated June 25, 2001, which describes procedures for repetitive inspections, lubrication, and tests of the release mechanism for the service/emergency door; and corrective actions if necessary. These procedures include inspection and lubrication of the four roller assemblies, actuating mechanism (including measurement of the torque of the torsion spring), and Bowden cables; adjustment of the Bowden cables; and measurement of the operating force for the emergency release button. The corrective actions include rework/repair or replacement of damaged or corroded parts with new parts of the same type.

Fokker Service B.V. has also issued Fokker Service Bulletin F28/52-89, dated October 31, 1983, which describes procedures for replacing the service/emergency door by removing the Bowden cable-operated door and installing a push-pull rod-operated door. Accomplishment of this service bulletin eliminates the need for the repetitive inspections and lubrication. For certain airplanes, Fokker Service Bulletin F28/52-89 recommends prior or concurrent accomplishment of Part VII of Fokker Service Bulletin F28/52-55, Revision 1, dated February 28, 1977. Part VII describes procedures for modification of the roller assemblies in the service/emergency door by installing a second pull-up mechanism.

Accomplishment of the actions specified in Service Bulletin F28/52-118, dated June 25, 2001, is intended to adequately address the identified unsafe condition. The CAA-NL classified Fokker Service Bulletin F28/52-118 as mandatory and issued Dutch airworthiness directive 2001-094, dated July 31, 2001, to ensure the continued airworthiness of these airplanes in the Netherlands.

FAA's Conclusions

This airplane model is manufactured in the Netherlands and is type certificated for operation in the United States under the provisions of § 21.29 of the Federal Aviation Regulations (14 CFR 21.29) and the applicable bilateral airworthiness agreement. Pursuant to this bilateral airworthiness agreement, the CAA-NL has kept the FAA informed of the situation described above. The FAA has examined the findings of the CAA-NL, reviewed all available information, and determined that AD action is necessary for products of this type design that are certificated for operation in the United States.

Explanation of Requirements of Proposed Rule

Since an unsafe condition has been identified that is likely to exist or develop on other airplanes of the same type design registered in the United States, the proposed rule would require accomplishment of the actions specified in Fokker Service Bulletin F28/52-118, dated June 25, 2001, described previously, except as discussed below.

Differences Between Dutch Airworthiness Directive, Service Bulletin, and Proposed Rule

Fokker Service Bulletin F28/52-118 and the Dutch airworthiness directive specify that if any discrepancy or corroded part is found during any inspection, the applicable corrective action must be accomplished within 1,500 flight hours or 18 months after finding the discrepancy or corroded part, whichever occurs first. We have determined that, because of the safety implications of a potentially inoperative emergency door, this proposed rule would require accomplishment of the applicable corrective action before further flight. This difference has been coordinated with the CAA-NL.

Also, where the service bulletin and the Dutch airworthiness directive specify inspections of various parts of the release mechanism for the service/emergency door, this proposed rule identifies these as general visual inspections. A note has been added to the proposed rule to define that type of inspection.

Cost Impact

The FAA estimates that 6 airplanes of U.S. registry would be affected by this proposed AD, that it would take approximately 15 work hours per airplane to accomplish the proposed actions, and that the average labor rate is $65 per work hour. Based on these figures, the cost impact of the proposed AD on U.S. operators is estimated to be $5,850, or $975 per inspection cycle.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fokker Services B.V.: Docket 2001-NM-333-AD.

Applicability: Model F.28 Mark 1000, 2000, 3000, and 4000 series airplanes as listed in the effectivity of Fokker Service Bulletin F28/52-118, dated June 25, 2001; certificated in any category.

Compliance: Required as indicated, unless accomplished previously.

To prevent failure of the release mechanism on the service/emergency door, which could result in the inability to open the service/emergency door during an emergency evacuation, accomplish the following:

Inspection, Lubrication, Testing, and Corrective Actions

(a) Within 12 months after the effective date of this AD: Do a general visual inspection (including measurement of the torque for the actuating mechanism torsion spring), lubricate, and test to verify proper operation of the emergency release mechanism of the service/emergency door by accomplishing all of the actions specified in paragraphs A. through R. of the Accomplishment Instructions of Fokker Service Bulletin F28/52-118, dated June 25, 2001.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) If no discrepant or corroded part is found during the inspection required by paragraph (a) of this AD: Repeat the actions specified in paragraph (a) of this AD thereafter at intervals not to exceed 1,500 flight hours or 18 months, whichever occurs first.

(2) If any discrepancy (including a torque value which exceeds the limits specified in the applicable service bulletin, improperly installed part, or damaged part) is found, or if a corroded part is found, during any inspection required by paragraph (a) of this AD: Before further flight, do the applicable corrective action in accordance with the Accomplishment Instructions of the service bulletin. Repeat the actions specified in paragraph (a) of this AD thereafter at intervals not to exceed 1,500 flight hours or 18 months, whichever occurs first.

Optional Terminating Action and Concurrent Service Bulletin

(b) Replacement of the Bowden cable-operated service/emergency door with a push-pull rod-operated service/emergency door, in accordance with Fokker Service Bulletin F28/52-89, dated October 31, 1983, constitutes terminating action for the repetitive inspections and lubrication required by paragraph (a) of this AD.

(c) For airplanes with serial numbers 11003 to 11051 inclusive, 11991, and 11992: Prior to or concurrent with paragraph (b) of this AD, accomplish the modification specified in part VII of Fokker Service Bulletin F28/52-55, Revision 1, dated February 28, 1977.

Alternative Methods of Compliance

(d) In accordance with 14 CFR 39.19, the Manager, International Branch, ANM-116, FAA, is authorized to approve alternative methods of compliance for this AD.

Note 2: The subject of this AD is addressed in Dutch airworthiness directive 2001-094, dated July 31, 2001.

Issued in Renton, Washington, on November 28, 2003.
Kevin Mullin,
Acting Manager, Transport Airplane Directorate, Aircraft Certification Service.

[FR Doc. 03-30224 Filed 12-4-03; 8:45 am]

BILLING CODE 4910-13-P